JUDICIAL CONFERENCE OF THE UNITED STATES

Meeting of the Judicial Conference Advisory Committee on Appellate Rules

AGENCY: Judicial Conference of the United States Advisory Committee on Appellate Rules.

ACTION: Notice of open meeting.

SUMMARY: The Advisory Committee on Appellate Rules will hold a meeting on April 3, 2020. The meeting will be open to public observation but not participation. An agenda and supporting materials will be posted at least 7 days in advance of the meeting at: http://www.uscourts.gov/rules-policies/records-and-archives-rules-committees/agenda-books.

DATES: April 3, 2020; 8:30 a.m.-1 p.m.

ADDRESSES: Hilton Hotel, 600 Okeechobee Blvd., West Palm Beach, FL 33401.

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Telephone (202) 502-1820.

Authority: 28 U.S.C. 2073.

Dated: January 14, 2020.
Rebecca A. Womeldorf,
Secretary, Committee on Rules of Practice and Procedure, Judicial Conference of the United States.

[FR Doc. 2020-00781 Filed 1-17-20; 8:45 am]

BILLING CODE 2210-55-P